DEPARTMENT OF ENERGY

Federal Energy Regulatory Commission

Combined Notice of Filings #2

Take notice that the Commission received the following electric rate filings:

Docket Numbers: ER21-979-000.

Applicants: Community Wind North 5 LLC.

Description: Tariff Cancellation: Notice of Cancellation to be effective 1/30/2021.

Filed Date: 1/29/21.

Accession Number: 20210129-5037.

Comments Due: 5 p.m. ET 2/19/21.

Docket Numbers: ER21-980-000.

Applicants: Community Wind North 6 LLC.

Description: Tariff Cancellation: Notice of Cancellation to be effective 1/30/2021.

Filed Date: 1/29/21.

Accession Number: 20210129-5038.

Comments Due: 5 p.m. ET 2/19/21.

Docket Numbers: ER21-981-000.

Applicants: Community Wind North 7 LLC.

Description: Tariff Cancellation: Notice of Cancellation to be effective 1/30/2021.

Filed Date: 1/29/21.

Accession Number: 20210129-5040.

Comments Due: 5 p.m. ET 2/19/21.

Docket Numbers: ER21-982-000.

Applicants: Community Wind North 8 LLC.

Description: Tariff Cancellation: Notice of Cancellation to be effective 1/30/2021.

Filed Date: 1/29/21.

Accession Number: 20210129-5042.

Comments Due: 5 p.m. ET 2/19/21.

Docket Numbers: ER21-983-000.

Applicants: Community Wind North 9 LLC.

Description: Tariff Cancellation: Notice of Cancellation to be effective 1/30/2021.

Filed Date: 1/29/21.

Accession Number: 20210129-5043.

Comments Due: 5 p.m. ET 2/19/21.

Docket Numbers: ER21-984-000.

Applicants: Community Wind North 10 LLC.

Description: Tariff Cancellation: Notice of Cancellation to be effective 1/30/2021.

Filed Date: 1/29/21.

Accession Number: 20210129-5044.

Comments Due: 5 p.m. ET 2/19/21.

Docket Numbers: ER21-985-000.

Applicants: Community Wind North 11 LLC.

Description: Tariff Cancellation: Notice of Cancellation to be effective 1/30/2021.

Filed Date: 1/29/21.

Accession Number: 20210129-5045.

Comments Due: 5 p.m. ET 2/19/21.

Docket Numbers: ER21-986-000.

Applicants: Community Wind North 13 LLC.

Description: Tariff Cancellation: Notice of Cancellation to be effective 1/30/2021.

Filed Date: 1/29/21.

Accession Number: 20210129-5047.

Comments Due: 5 p.m. ET 2/19/21.

Docket Numbers: ER21-987-000.

Applicants: Community Wind North 15 LLC.

Description: Tariff Cancellation: Notice of Cancellation to be effective 1/30/2021.

Filed Date: 1/29/21.

Accession Number: 20210129-5048.

Comments Due: 5 p.m. ET 2/19/21.

Docket Numbers: ER21-988-000.

Applicants: Crowned Ridge Wind II, LLC.

Description: Tariff Cancellation: Notice of Cancellation to be effective 1/30/2021.

Filed Date: 1/29/21.

Accession Number: 20210129-5049.

Comments Due: 5 p.m. ET 2/19/21.

Docket Numbers: ER21-989-000.

Applicants: Deseret Generation & Transmission Co-operative, Inc.

Description: Initial rate filing: WAPA BASA and SRSA Filing to be effective 2/1/2021.

Filed Date: 1/29/21.

Accession Number: 20210129-5058.

Comments Due: 5 p.m. ET 2/19/21.

Docket Numbers: ER21-990-000.

Applicants: Southwest Power Pool, Inc.

Description: § 205(d) Rate Filing: 2451R5 KEPCO NITSA NOA to be effective 1/1/2021.

Filed Date: 1/29/21.

Accession Number: 20210129-5063.

Comments Due: 5 p.m. ET 2/19/21.

Docket Numbers: ER21-991-000.

Applicants: Southwest Power Pool, Inc.

Description: § 205(d) Rate Filing: 3761 KEPCO NITSA NOA and 2452R2 KEPCO NITSA CANCELLATION to be effective 1/1/2021.

Filed Date: 1/29/21.

Accession Number: 20210129-5087.

Comments Due: 5 p.m. ET 2/19/21.

Docket Numbers: ER21-992-000.

Applicants: Midcontinent Independent System Operator, Inc.

Description: § 205(d) Rate Filing: 2021-01-29_SA 3263 MidAmerican-MidAmerican 1st Rev GIA (J530) to be effective 1/20/2021.

Filed Date: 1/29/21.

Accession Number: 20210129-5092.

Comments Due: 5 p.m. ET 2/19/21.

Docket Numbers: ER21-993-000.

Applicants: Pacific Gas and Electric Company.

Description: § 205(d) Rate Filing: Amendment to E&P Agrmt with CA High Speed Rail (RS 247) to be effective 1/30/2021.

Filed Date: 1/29/21.

Accession Number: 20210129-5101.

Comments Due: 5 p.m. ET 2/19/21.

Docket Numbers: ER21-994-000.

Applicants: Duke Energy Carolinas, LLC

Description: § 205(d) Rate Filing: DEC-NCEMC NITSA SA-210 to be effective 1/1/2021.

Filed Date: 1/29/21.

Accession Number: 20210129-5103.

Comments Due: 5 p.m. ET 2/19/21.

Docket Numbers: ER21-995-000.

Applicants: Southwest Power Pool, Inc.

Description: § 205(d) Rate Filing: 3736 City of Fremont PTP Agreement to be effective 1/1/2021.

Filed Date: 1/29/21.

Accession Number: 20210129-5139

Comments Due: 5 p.m. ET 2/19/21.

Docket Numbers: ER21-996-000.

Applicants: Alabama Power Company.

Description: § 205(d) Rate Filing: SEPA Network Agreement Amendment Filing (Revision No. 10) to be effective 1/1/2021.

Filed Date: 1/29/21.

Accession Number: 20210129-5140.

Comments Due: 5 p.m. ET 2/19/21.

Docket Numbers: ER21-997-000.

Applicants: Martinez Refining Company LLC.

Description: Baseline eTariff Filing: Martinez Refining Company LLC Notice of Non-Material Change in Status to be effective 2/1/2021.

Filed Date: 1/29/21.

Accession Number: 20210129-5195.

Comments Due: 5 p.m. ET 2/19/21.

Docket Numbers: ER21-998-000.

Applicants: Midway-Sunset Cogeneration Company.

Description: Initial rate filing: MSCC RMR Agreement Filing to be effective 2/1/2021.

Filed Date: 1/29/21.

Accession Number: 20210129-5213.

Comments Due: 5 p.m. ET 2/19/21.

Docket Numbers: ER21-999-000.

Applicants: Midcontinent Independent System Operator, Inc.

Description: § 205(d) Rate Filing: 2021-01-29_SA 1756 METC-Consumers Energy 14th Rev GIA (G479B) to be effective 1/1/2021.

Filed Date: 1/29/21.

Accession Number: 20210129-5222.

Comments Due: 5 p.m. ET 2/19/21.

Docket Numbers: ER21-1000-000.

Applicants: PJM Interconnection, L.L.C.

Description: § 205(d) Rate Filing: Original WMPA SA No. 5452; NQ164 & Amendment to ISA SA No. 3504; NQ69 to be effective 12/31/2020.

Filed Date: 1/29/21.

Accession Number: 20210129-5227.

Comments Due: 5 p.m. ET 2/19/21.

Docket Numbers: ER21-1001-000.

Applicants: New York Independent System Operator, Inc.

Description: § 205(d) Rate Filing: NYISO 205 filing of proposed tariff revisions to Implement CSR to be effective 3/30/2021.

Filed Date: 1/29/21.

Accession Number: 20210129-5249.

Comments Due: 5 p.m. ET 2/19/21.

Docket Numbers: ER21-1002-000.

Applicants: Tri-State Generation and Transmission Association, Inc.

Description: § 205(d) Rate Filing: Amendment to OATT for the Western Energy Imbalance Market to be effective 4/1/2021.

Filed Date: 1/29/21.

Accession Number: 20210129-5256.

Comments Due: 5 p.m. ET 2/19/21.

Take notice that the Commission received the following electric securities filings:

Docket Numbers: ES21-28-000.

Applicants: El Paso Electric Company.

Description: Application under Section 204 of the Federal Power Act for Authorization to Issue Securities for El Paso Electric Company.

Filed Date: 1/29/21.

Accession Number: 20210129-5272.

Comments Due: 5 p.m. ET 2/19/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 29, 2021.
Nathaniel J. Davis, Sr.,
Deputy Secretary.

[FR Doc. 2021-02417 Filed 2-4-21; 8:45 am]

BILLING CODE 6717-01-P